DEPARTMENT OF AGRICULTURE

Grain Inspection, Packers and Stockyards Administration

[02-01-S]

Designation for the Aberdeen (SD), Decatur (IL), Grand Forks (ND), Hastings (NE), McCrea (IA), Missouri, and South Carolina Areas

AGENCY: Grain Inspection, Packers and Stockyards Administration, USDA.

ACTION: Notice.

SUMMARY: Grain Inspection, Packers and Stockyards Administration (GIPSA) announces designation of the following organizations to provide official services under the United States Grain Standards Act, as amended (Act): Aberdeen Grain Inspection, Inc. (Aberdeen); Decatur Grain Inspection, Inc. (Decatur); Grand Forks Grain Inspection Department, Inc. (Grand Forks); Hastings Grain Inspection, Inc. (Hastings); John R. McCrea Agency, Inc. (McCrea); Missouri Department of Agriculture (Missouri); South Carolina Department of Agriculture (South Carolina);

EFFECTIVE DATES: October 1, 2002.

ADDRESSES: USDA, GIPSA, Janet M. Hart, Chief, Review Branch, Compliance Division, STOP 3604, Room 1647-S, 1400 Independence Avenue, SW., Washington, DC 20250-3604.

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the March 1, 2002, Federal Register (67 FR 9434), GIPSA asked persons interested in providing official services in the geographic areas assigned to the official agencies named above to submit an application for designation. Applications were due by April 1, 2002.

Aberdeen, Decatur, Grand Forks, Hastings, McCrea, Missouri, and South Carolina were the sole applicants for designation to provide official services in the entire area currently assigned to them, so GIPSA did not ask for additional comments on them.

GIPSA evaluated all available information regarding the designation criteria in section 7(f)(l)(A) of the Act and, according to section 7(f)(l)(B), determined that Aberdeen, Decatur, Grand Forks, Hastings, McCrea, Missouri, and South Carolina are able to provide official services in the geographic areas specified in the March 1, 2002, Federal Register, for which they applied. Effective October 1, 2002, and ending September 30, 2005, Aberdeen, Decatur, Hastings, McCrea, Missouri, and South Carolina are designated to provide official services in the geographic areas for which they applied. Effective October 1, 2002, and ending September 30, 2003, Grand Forks is designated for one year only to provide official services in the geographic area for which they applied. Interested persons may obtain official services by calling the telephone numbers listed below.

Official agency | Headquarters location and telephone | Designation start—end
Aberdeen | Aberdeen, SD; 605-225-8432 | 10/01/2002-09/30/2005
| Additional Service Location: Marion, SD
Decatur | Decatur, IL; 217-429-2466 | 10/01/2002-09/30/2005
Grand Forks | Grand Forks, ND; 701-772-0151 | 10/01/2002-09/30/2003
| Additional Service Locations: Devils Lake, Gladstone, ND
Hastings | Hastings, NE; 402-462-4254 | 10/01/2002-09/30/2005
| Additional Service Location: Grand Island, NE
McCrea | Clinton, IA; 563-242-2073 | 10/01/2002-09/30/2005
Missouri | Jefferson City, MO; 573-751-5515 | 10/01/2002-09/30/2005
| Additional Service Locations: Kansas City, Laddonia, Marshall, New Madrid, St. Joseph, MO
South Carolina | Columbia, SC; 803-734-2200 | 10/01/2002-09/30/2005
| Additional Service Location: North Charleston, SC

Authority: Pub. L. 94-582, 90 Stat. 2867, as amended (7 U.S.C. 71 et seq.).

Dated: August 13, 2002.
Donna Reifschneider,
Administrator, Grain Inspection, Packers and Stockyards Administration.

[FR Doc. 02-22082 Filed 8-30-02; 8:45 am]

BILLING CODE 3410-EN-P